ENVIRONMENTAL PROTECTION AGENCY

40 CFR Part 52

[EPA-R09-OAR-2011-0589 and EPA-R09-OAR-2011-0622; FRL-9753-3]

Approval of Air Quality Implementation Plans; California; San Joaquin Valley and South Coast; Attainment Plan for the 1997 8-hour Ozone Standards; Technical Amendments

AGENCY: U.S. Environmental Protection Agency (EPA).

ACTION: Final rule; technical amendments.

SUMMARY: EPA is making technical amendments to the Code of Federal Regulations (CFR) to reflect the Agency's March 1, 2012 final approvals of the California State Implementation Plans for attainment of the 1997 8-hour ozone National Ambient Air Quality Standards in the San Joaquin Valley and the South Coast Air Basin. These technical amendments correct the CFR to properly codify the California Air Resources Board's commitments to propose certain defined measures.

DATES: This technical amendment is effective on November 27, 2012.

FOR FURTHER INFORMATION CONTACT: Frances Wicher, Air Planning Office (AIR-2), U.S. Environmental Protection Agency, Region 9, (415) 972-3957, wicher.frances@epa.gov.

SUPPLEMENTARY INFORMATION: Throughout this document, “we”, “us” and “our” refer to EPA.

On March 1, 2012, EPA fully approved the California State Implementation Plans (SIPs) for attainment of the 1997 8-hour ozone National Ambient Air Quality Standards (NAAQS) in the San Joaquin Valley and South Coast (Los Angeles) Air Basin and included provisions of these SIPs in the Code of Federal Regulations (CFR) at 40 CFR 52.220(c). See 77 FR 12652 (March 1, 2012) and 77 FR 12674 (March 1, 2012). As submitted, these SIPs include commitments by the California Air Resources Board (CARB) to propose certain defined measures. These commitments were included in the Progress Report on Implementation of PM2.5 State Implementation Plans (SIP) for the South Coast and San Joaquin Valley Air Basins and Proposed SIP Revisions (“2011 Progress Report”), adopted by CARB on April 28, 2011 and submitted on May 18, 2011 and the 8-Hour Ozone State Implementation Plan Revisions and Technical Revisions to the PM2.5 State Implementation Plan Transportation Conformity Budgets for the South Coast and San Joaquin Valley Air Basins (“2011 Ozone SIP Revisions”), adopted by CARB on July 21, 2011 and submitted on July 29, 2011.

In the preamble to our final action approving the San Joaquin Valley's 8-Hour Ozone SIP, we stated that we are approving “CARB's commitments to propose certain defined measures, as listed in Table B-1 on page 1 of Appendix B of the 2011 Progress Report and in Appendix A-3 of the 2011 Ozone SIP Revisions.” See 77 FR 12652 at 12670. We proposed the same at 76 FR 557846, 57867 (September 16, 2011). EPA did not, however, accurately codify this approval in the final regulatory text. We are issuing this technical amendment to 40 CFR 52.220 to correct this oversight. This technical amendment makes no changes to the substance of our March 1, 2012 approval of the SJV 8-Hour Ozone SIP.

In the preamble to our final action approving the South Coast 8-Hour Ozone SIP, we stated that we are approving “CARB's commitments to propose certain defined measures, as listed in Appendix B, Table B-1 of the 2011 Ozone SIP Revision.” ¹ See 77 FR 12674, 12693. We proposed this action at 76 FR 57872 at 57895 (September 16, 2011). EPA did not, however, accurately codify this approval in the final regulatory text. We are issuing this technical amendment to 40 CFR 52.220 to correct this oversight. This technical amendment makes no changes to the substance of our March 1, 2012 approval of the South Coast 8-Hour Ozone SIP.

¹ “2011 Ozone SIP Revision” here should have been “2011 Progress Report.” CARB included Table B-1 in Appendix B in the 2011 Ozone SIP Revision for informational purposes only but intended that the commitments to propose defined measures as given on Table B-1 of Appendix B of the 2011 Progress Report be included in the South Coast 8-hour Ozone SIP. See Appendix A-3 of the 2011 Ozone SIP Revisions.

List of Subjects in 40 CFR Part 52

Environmental protection, Air pollution control, Incorporation by reference, Intergovernmental relations, Nitrogen Dioxide, Ozone, Volatile organic compounds.

Dated: November 9, 2012 .
Jared Blumenfeld,
Regional Administrator, Region IX.

For the reasons discussed in the preamble, EPA amends 40 CFR part 52 to read as follows:

PART 52—APPROVAL AND PROMULGATION OF IMPLEMENTATION PLANS

1. The authority citation for Part 52 continues to read as follows:

Authority: 42 U.S.C. 7401 et seq.

Subpart F—California

2. Section 52.220 is amended by:

a. Adding and reserving paragraph (c)(396)(ii)(A)(2)(ii); and

b. Adding paragraphs (c)(396)(ii)(A)(2)(iii) and (c)(401)(ii)(A)(2)(ii).

The added text reads as follows.

§ 52.220 Identification of plan.

* * * * *

(c) * * *

(396) * * *

(ii) * * *

(A) * * *

(2) * * *

(ii) [Reserved]

(iii) Commitments to propose measures as provided in Appendix B, Table B-1 of the Progress Report on the Implementation of PM2.5 State Implementation Plans (SIP) for the South Coast and San Joaquin Valley Air Basins and Proposed SIP Revisions (Release Date: March 29, 2011), adopted April 28, 2011, as amended by Appendix A, p. A-7 of the 8-Hour Ozone State Implementation Plan Revisions and Technical Revisions to the PM2.5 State Implementation Plan Transportation Conformity Budgets for the South Coast and San Joaquin Valley Air Basins (Release Date: June 20, 2011), adopted July 21, 2011.

* * * * *

(401) * * *

(ii) * * *

(A) * * *

(2) * * *

(ii) Commitment to propose measures as provided in Appendix B Table B-1 of the Progress Report on the Implementation of PM2.5 State Implementation Plans (SIP) for the South Coast and San Joaquin Valley Air Basins and Proposed SIP Revisions (Release Date: March 29, 2011), adopted April 28, 2011.

* * * * *

[FR Doc. 2012-28598 Filed 11-26-12; 8:45 am]

BILLING CODE 6560-50-P